DEPARTMENT OF COMMERCE

International Trade Administration

International Trade Specialist Counseling Session Survey

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(2)(A)).

Dates: Written comments must be submitted on or before October 20, 2006.

ADDRESSES: Direct all written comments to Diana Hynek, Departmental Paperwork Clearance Officer, Department of Commerce, Room 6625, 14th & Constitution Avenue, NW., Washington, DC 20230. E-mail: dHynek@doc.gov

FOR FURTHER INFORMATION CONTACT: Request for additional information or copies of the information collection instrument and instructions should be directed to: Joseph Carter, 14th & Constitution Avenue, NW., Washington, DC 20230; Phone number: (202) 482-3342; E-mail: joseph.carter@mail.doc.gov

SUPPLEMENTARY INFORMATION:

I. Abstract

The International Trade Administration's U.S. Commercial Service is mandated by Congress to help U.S. businesses, particularly small and medium-sized companies, export their products and services to global markets. As part of its mission, the U.S. Commercial Service (CS) currently uses “Quality Assurance Surveys” to collect feedback from U.S. business clients that use U.S. Commercial Service pay-for-use products/events provided by the organization's international offices. These surveys ask the client to evaluate the U.S. Commercial Service on its customer service provision. Results from the surveys are used to make improvements to the agency's business processes in order to provide better and more effective export assistance to U.S. companies. In addition to collecting client feedback for pay-for-use products/events provided by the U.S. Commercial Service's international offices, the U.S. Commercial Service would like to institutionalize Counseling Session Surveys to obtain client feedback from U.S. businesses that have engaged in “counseling sessions” with CS International Trade Specialists in the domestic offices (known as U.S. Export Assistance Centers). Counseling sessions occur when an International Trade Specialist from one of the U.S. Commercial Service's domestic offices works with a client to determine their international marketing interests and provide “global trade solutions”.

The purpose of the attached survey is to collect feedback from U.S. businesses that receive counseling from domestic International Trade Specialists of the U.S. Commercial Service. This information will be used for program improvement, strategic planning, and allocation of resources. Survey responses will be used to assess client satisfaction, assess priorities, and identify areas where service levels and benefits differ from client expectations. In providing these counseling services, the U.S. Commercial Service promotes the goods and services of small and medium-sized U.S. businesses in foreign markets.

II. Method of Collection

The data collection method chosen for the counseling session quality assurance survey is an e-mail message delivering a hot link to a web enabled survey. If the client does not respond to the survey within two weeks, another e-mail reminder is sent to the client.

III. Data

OMB Number: 0625-0253.

Form Number: ITA-4154P.

Type of Review: Regular Submission.

Affected Public: U.S. companies that are recruited by the U.S. Commercial Service.

Estimated Number of Respondents: 1700.

Estimated Time per Response: 10 minutes.

Estimated Total Annual Burden Hours: 284 hours.

Estimated Total Annual Costs: The estimated annual cost for this collection is $9596.00.

IV. Request for Comments

Comments are invited on (a) whether the proposed collection of information is necessary for proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: August 15, 2006.
Madeleine Clayton,
Management Analyst, Office of the Chief Information Officer.

[FR Doc. E6-13706 Filed 8-18-06; 8:45 am]

BILLING CODE 3510-FP-P